DEPARTMENT OF HEALTH AND HUMAN SERVICES

Administration for Community Living

Administration on Intellectual and Developmental Disabilities, President's Committee for People With Intellectual Disabilities

AGENCY: Administration for Community Living, HHS.

ACTION: Notice.

SUMMARY: The President's Committee for People with Intellectual Disabilities (PCPID) will host a face to face meeting for its members to discuss the potential topics of the Committee's 2019 Report to the President. All the PCPID meetings, in any format, are open to the public.

DATES: Thursday, March 21, 2019 from 9:00 a.m. to 4:30 p.m.; and Friday, March 22, 2019 from 9:00 a.m. to 4:30 p.m. (EST).

ADDRESSES: This meeting will be held in U.S. Department of Health and Human Services/Hubert H. Humphrey Building located at 200 Independence Avenue SW, Room 800, Washington, DC 20201. Individuals who would like to participate via conference call may do so by dialing toll-free #: 1-888-949-2790, when prompted enter pass code: 1989852. Individuals whose full participation in the meeting will require special accommodations (e.g., sign language interpreting services, assistive listening devices, materials in alternative format such as large print or Braille) should notify Ms. Allison Cruz, Director, Office of Innovation, via email at Allison.Cruz@acl.hhs.gov, or via telephone at 202-795-7334, no later than Monday, February 28, 2019. The PCPID will attempt to accommodate requests made after this date, but cannot guarantee the ability to grant requests received after the deadline. All meeting sites are barrier free, consistent with the Americans with Disabilities Act (ADA) and the Federal Advisory Committee Act (FACA).

Agenda: The Committee will discuss the preparation of the PCPID 2019 Report to the President.

SUPPLEMENTARY INFORMATION: The purpose of this meeting is to discuss the Committee's preparation of the 2019 Report to the President, including its content and format, and related data collection and analysis required to complete the writing of the Report.

Background Information on the Committee: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) Expanding employment opportunities; (B) connecting people to services; (C) supporting families and caregivers; (D) strengthening the networks; and (E) protecting rights and preventing abuse.

Dated: January 29, 2019.
Julie Hocker,
Commissioner, Administration on Disabilities (AoD).

[FR Doc. 2019-01122 Filed 2-4-19; 8:45 am]

BILLING CODE 4154-01-P